DEPARTMENT OF HOMELAND SECURITY

Coast Guard

[CGD08-04-044]

Houston/Galveston Navigation Safety Advisory Committee

AGENCY: Coast Guard, DHS.

ACTION: Notice of meetings.

SUMMARY: The Houston/Galveston Navigation Safety Advisory Committee (HOGANSAC) and its working groups will meet to discuss waterway improvements, aids to navigation, area projects impacting safety on the Houston Ship Channel, and various other navigation safety matters in the Galveston Bay area. All meetings will be open to the public.

DATES: The next meeting of HOGANSAC will be held on Thursday, February 10, 2005 at 9 a.m. The meeting of the Committee's working groups will be held on Tuesday, January 18, 2005 at 9 a.m.

ADDRESSES: The full Committee meeting will be held at the Barbour's Cut Cruise Terminal, 820 North L Street, Morgan's Point, TX 77572, (281-470-1800). The working groups meeting will be held at the Port of Texas City office building, 2425 Highway 146 North, Texas City, TX 77552 (409-945-4461).

FOR FURTHER INFORMATION CONTACT: Captain (CAPT) Richard Kaser, Executive Director of HOGANSAC, telephone (713) 671-5199, Commander (CDR) Tom Marian, Executive Secretary of HOGANSAC, telephone (713) 671-5164, or Lieutenant Junior (LTJG) Grade Brandon Finley, Assistant to the Executive Secretary of HOGANSAC, telephone (713) 671-5103, e-mail rfinley@vtshouston.uscg.mil. Written materials and requests to make presentations should be sent to Commanding Officer, VTS Houston/Galveston, Attn: LTJG Finley, 9640 Clinton Drive, Floor 2, Houston, TX 77029.

SUPPLEMENTARY INFORMATION: Notice of this meeting is given pursuant to the Federal Advisory Committee Act, 5 U.S.C. App. 2.

Agenda of the Meetings

Houston/Galveston Navigation Safety Advisory Committee (HOGANSAC). The tentative agenda includes the following:

(1) Opening remarks by the Committee Sponsor (RADM Duncan) or the Committee Sponsor's representative, Executive Director (CAPT Kaser) and Chairperson (Mr. Tim Leitzell).

(2) Approval of the October 5, 2004 minutes.

(3) Old Business:

(a) Dredging projects; (b) AtoN Knockdown Working Group; (c) Navigation Operations subcommittee report; (d) Education and Outreach subcommittee report; (e) Area Maritime Security Committee Liaison's report; (f) Technology subcommittee report; (g) Safe Harbor Working Group; (h) Deepdraft Entry Facilitation Working Group; (i) Galveston Causeway Construction Working Group.

(4) New Business: (a) State of the Waterway presentation; (b) Renewal of HOGANSAC charter (2004-2006); (c) Recognition of new membership; (d) 2005 Harbor Safety Conference; (e) Public Service Awards.

Working Groups Meeting. The tentative agenda for the working groups meeting includes the following:

(1) Presentation by each working group of its accomplishments and plans for the future.

(2) Review and discuss the work completed by each working group.

Procedural

Working groups have been formed to examine the following issues: Dredging and related issues, electronic navigation systems, AtoN knockdowns, impact of passing vessels on moored ships, boater education issues, facilitating deep draft movements and mooring infrastructure. Not all working groups will provide a report at this session. Further, working group reports may not necessarily include discussions on all issues within the particular working group's area of responsibility. All meetings are open to the public. Please note that the meetings may adjourn early if all business is finished. Members of the public may make presentations, oral or written, at either meeting. Requests to make oral or written presentations should reach the Coast Guard five (5) working days before the meeting at which the presentation will be made. If you would like to have written materials distributed to each member of the committee in advance of the meeting, you should send your request along with fifteen (15) copies of the materials to the Coast Guard at least ten (10) working days before the meeting at which the presentation will be made.

Information on Services for the Handicapped

For information on facilities or services for the handicapped or to request special assistance at the meetings, contact the Executive Director, Executive Secretary, or Assistant to the Executive Secretary as soon as possible.

Dated: December 16, 2004.
R.F. Duncan,
Rear Admiral, U.S. Coast Guard, Commander, Eighth Coast Guard District.

[FR Doc. 04-28551 Filed 12-29-04; 8:45 am]

BILLING CODE 4910-15-P